SECURITIES AND EXCHANGE COMMISSION

[File No. 500-1]

Clear Skies Solar, Inc., Debut Broadcasting Corporation, Inc., Physicians Healthcare Management Group, Inc., Technipower Systems, Inc. (a/k/a Solomon Technologies, Inc.), Theater Xtreme Entertainment Group, Inc., WorldGate Communications, Inc., and YTB International, Inc. (a/k/a 1803 International, Inc.); Order of Suspension of Trading

May 7, 2014.

Clear Skies Solar, Inc. (CIK No. 1402857) is a void Delaware corporation located in Farmingdale, New York with a class of securities registered with the Commission pursuant to Exchange Act Section 12(g). Clear Skies Solar, Inc. is delinquent in its periodic filings with the Commission, having not filed any periodic reports since it filed a Form 10-Q for the period ended September 30, 2011, which reported a net loss of $3,163,652 for the prior nine months. As of May 1, 2014, the company's stock (symbol “CSKH”) was quoted on OTC Link, had eight market makers, and was eligible for the “piggyback” exception of Exchange Act Rule 15c2-11(f)(3). It appears to the Securities and Exchange Commission that there is a lack of current and accurate information concerning the securities of Clear Skies Solar, Inc. because it has not filed any periodic reports since the period ended September 30, 2011.

Debut Broadcasting Corporation, Inc. (CIK No. 1254371) is a defaulted Nevada corporation located in Nashville, Tennessee with a class of securities registered with the Commission pursuant to Exchange Act Section 12(g). Debut Broadcasting Corporation, Inc. is delinquent in its periodic filings with the Commission, having not filed any periodic reports since it filed a Form 10-Q for the period ended September 30, 2011, which reported a net loss of $411,205 for the prior nine months. As of May 1, 2014, the company's stock (symbol “DBTB”) was quoted on OTC Link, had seven market makers, and was eligible for the “piggyback” exception of Exchange Act Rule 15c2-11(f)(3). It appears to the Securities and Exchange Commission that there is a lack of current and accurate information concerning the securities of Debut Broadcasting Corporation, Inc. because it has not filed any periodic reports since the period ended September 30, 2011.

Physicians Healthcare Management Group, Inc. (CIK No. 1528006) is a Nevada corporation located in Miami, Florida with a class of securities registered with the Commission pursuant to Exchange Act Section 12(g). Physicians Healthcare Management Group, Inc. is delinquent in its periodic filings with the Commission, having not filed any periodic reports since it filed a Form 10-Q for the period ended September 30, 2011, which reported a net loss of $5,238,240 since the company's February 14, 2005 inception. Moreover, the company has never filed a Form 10-K. As of May 1, 2014, the company's stock (symbol “PHYH”) was quoted on OTC Link, had eight market makers, and was eligible for the “piggyback” exception of Exchange Act Rule 15c2-11(f)(3). It appears to the Securities and Exchange Commission that there is a lack of current and accurate information concerning the securities of Physicians Healthcare Management Group, Inc. because it has not filed any periodic reports since the period ended September 30, 2011.

Technipower Systems, Inc. (a/k/a Solomon Technologies, Inc.) (CIK No. 1240722) is a void Delaware corporation located in Danbury, Connecticut with a class of securities registered with the Commission pursuant to Exchange Act Section 12(g). Technipower Systems is delinquent in its periodic filings with the Commission, having not filed any periodic reports since it filed a Form 10-Q for the period ended September 30, 2008, which reported a net loss of over $5,120,887 for the prior nine months. As of May 1, 2014, the company's stock (symbol “TECZ”) was quoted on OTC Link, had six market makers, and was eligible for the “piggyback” exception of Exchange Act Rule 15c2-11(f)(3). It appears to the Securities and Exchange Commission that there is a lack of current and accurate information concerning the securities of Technipower Systems, Inc. because it has not filed any periodic reports since the period ended September 30, 2008.

Theater Xtreme Entertainment Group, Inc. (CIK No. 1089775) is a dissolved Florida corporation located in Newark, Delaware with a class of securities registered with the Commission pursuant to Exchange Act Section 12(g). Theater Xtreme Entertainment Group is delinquent in its periodic filings with the Commission, having not filed any periodic reports since it filed a Form 10-Q for the period ended September 30, 2008, which reported a net loss of over $987,815 for the prior three months. As of May 1, 2014, the company's stock (symbol “TXEGQ”) was quoted on OTC Link, had five market makers, and was eligible for the “piggyback” exception of Exchange Act Rule 15c2-11(f)(3). It appears to the Securities and Exchange Commission that there is a lack of current and accurate information concerning the securities of Theater Xtreme Entertainment Group, Inc. because it has not filed any periodic reports since the period ended September 30, 2008.

WorldGate Communications, Inc. (CIK No. 1030058) is a forfeited Delaware corporation located in Trevose, Pennsylvania with a class of securities registered with the Commission pursuant to Exchange Act Section 12(g). WorldGate Communications, Inc. is delinquent in its periodic filings with the Commission, having not filed any periodic reports since it filed a Form 10-Q for the period ended September 30, 2011, which reported a net loss of $4,470,000 for the prior nine months. As of May 1, 2014, the company's stock (symbol “WGATQ”) was quoted on OTC Link, had ten market makers, and was eligible for the “piggyback” exception of Exchange Act Rule 15c2-11(f)(3). It appears to the Securities and Exchange Commission that there is a lack of current and accurate information concerning the securities of WorldGate Communications, Inc. because it has not filed any periodic reports since the period ended September 30, 2011.

YTB International, Inc. (a/k/a 1803 International, Inc.) (CIK No. 852766) is a Delaware corporation located in Wood River, Illinois with a class of securities registered with the Commission pursuant to Exchange Act Section 12(g). YTB International, Inc. is delinquent in its periodic filings with the Commission, having not filed any periodic reports since it filed a Form 10-Q for the period ended September 30, 2011, which reported a net loss of $668,000 for the prior three months. As of May 1, 2014, the company's stock (symbol “YTBLQ”) was quoted on OTC Link, had ten market makers, and was eligible for the “piggyback” exception of Exchange Act Rule 15c2-11(f)(3). It appears to the Securities and Exchange Commission that there is a lack of current and accurate information concerning the securities of YTB International, Inc. because it has not filed any periodic reports since the period ended September 30, 2011.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 7, 2014, through 11:59 p.m. EDT on May 20, 2014.

By the Commission.
Jill M. Peterson,
Assistant Secretary.

[FR Doc. 2014-10797 Filed 5-7-14; 4:15 pm]

BILLING CODE 8011-01-P